DEPARTMENT OF THE INTERIOR

Bureau of Indian Affairs

Indian Gaming

AGENCY: Bureau of Indian Affairs, Interior.

ACTION: Notice of Approved Tribal-State Compact Amendment.

SUMMARY: This notice publishes approval of the 2010 Amendments to the Red Cliff Band of Lake Superior Chippewas (“Tribe”) and the State of Wisconsin Gaming Compact of 1991, as Amended in 1999 and 2003.

DATES: Effective Date: November 8, 2010.

FOR FURTHER INFORMATION CONTACT: Paula L. Hart, Director, Office of Indian Gaming, Office of the Deputy Assistant Secretary—Policy and Economic Development, Washington, DC 20240, telephone: (202) 219-4066.

SUPPLEMENTARY INFORMATION: Under section 11 of the Indian Gaming Regulatory Act of 1988 (IGRA), Public Law 100-497, 25 U.S.C. 2710, the Secretary of the Interior shall publish in the Federal Register notice of approved Tribal-State compacts for the purpose of engaging in Class III gaming activities on Indian lands. This Amendment allows the Tribe to obtain financing through an “Indian tribe,” as well as federally or state-chartered financial institutions.

Dated: November 2, 2010.
Larry Echo Hawk,
Assistant Secretary—Indian Affairs.

[FR Doc. 2010-28187 Filed 11-5-10; 8:45 am]

BILLING CODE 4310-4N-P